DEPARTMENT OF ENERGY

Federal Energy Regulatory Commission

[Project No. 1971-079]

Idaho Power Company; Notice of Meeting

Commission staff will meet with representatives of the Burns Paiute Tribe regarding the proposed Hells Canyon Hydroelectric Project. The meeting will be held via teleconference on January 28, 2020 at 2 p.m. Eastern Standard Time (EST).

Members of the public, intervenors, and agencies in the referenced proceeding and Idaho Power Company may attend this meeting; however, participation will be limited to only tribal representatives and Commission staff. If the Burns Paiute Tribe decides to disclose information about a specific location which could create a risk or harm to an archeological site or Native American cultural resource, the public will be excused for that portion of the meeting.¹ If you plan to attend this meeting, please contact Michael Davis at (202) 502-8339 or at michael.davis@ferc.gov by January 25, 2020, to receive contact information.

¹ Protection from public disclosure involving this kind of specific information is based upon 18 CFR 4.32(b)(3)(ii) (2020) of the Commission's regulations implementing the Federal Power Act.

Dated: January 11, 2021.
Nathaniel J. Davis, Sr.,
Deputy Secretary.

[FR Doc. 2021-00859 Filed 1-14-21; 8:45 am]

BILLING CODE 6717-01-P